SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before November 3, 2016.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov

SUPPLEMENTARY INFORMATION: Respondent are applicants for a Certified Development Company (CDC) loan (or 504 loan) and the CDC's certified by SBA to issue such loans. The information is necessary for the Small Business Administration (SBA) to determine whether applicants meet the Agency's criteria for eligibility, creditworthiness, and repayment ability, and also whether to approve CDC's request for debenture guarantees.

Copies: A copy of the Form OMB 83-1, supporting statement, and other documents submitted to OMB for review may be obtained from the Agency Clearance Officer.

Solicitation of Public Comments

Title: Application for Section 504 Loans.

Description of Respondents: Small Business Lending Companies.

Form Number's: SBA Forms 1244, 2450.

Estimated Annual Responses: 9,100.

Estimated Annual Hour Burden: 21,749.

Curtis B. Rich,
Management Analyst .

[FR Doc. 2016-23764 Filed 10-3-16; 8:45 am]

BILLING CODE 8025-01-P